DEPARTMENT OF DEFENSE

Office of the Secretary

[Docket No. DOD-2006-OS-0147]

Privacy Act of 1974; System of Records

AGENCY: Office of the Secretary, DoD.

ACTION: Notice to delete systems of records.

SUMMARY: The Office of the Secretary of Defense is deleting a system of records notice from its existing inventory of records systems subject to the Privacy Act of 1974, (5 U.S.C. 552a), as amended.

DATES: Effective June 16, 2006.

ADDRESSES: OSD Privacy Act Coordinator, Records Management Section, Washington Headquarters Services, 1155 Defense Pentagon, Washington, DC 20301-1155.

FOR FURTHER INFORMATION CONTACT: Ms. Juanita Irvin at (703) 696-4940.

SUPPLEMENTARY INFORMATION: The Office of the Secretary of Defense systems of records notices subject to the Privacy Act of 1974, (5 U.S.C. 552a), as amended, have been published in the Federal Register and are available from the address above.

The specific changes to the records system being amended are set forth below followed by the notice, as amended, published in its entirety. The proposed amendments are not within the purview of subsection (r) of the Privacy Act of 1974, (5 U.S.C. 552a), as amended, which requires the submission of a new or altered system report.

Dated: June 12, 2006.
C.R. Choate,
Alternate OSD Federal Register Liaison Officer, Department of Defense.

DoDDS 01

System name:

Teacher Correspondence Files (May 14, 1997, 62 FR 26483).

Reason: The records contained in this system of records are covered by OPM/GOVT-5 (Recruiting, Examining and Placement Records), a government wide system notice.

[FR Doc. 06-5455 Filed 6-15-06; 8:45 am]

BILLING CODE 4001-06-M